DEPARTMENT OF ENERGY

Federal Energy Regulatory Commission

[Project No. 2566-010; Project No. 11616-000]

Consumers Energy Company, City of Portland, MI; Notice of Section 10(j) Teleconference

January 9, 2001.

a. Date and Time of Meeting: January 31, 2001, 10 am EST.

b. FERC Contact: Tom Dean at (202) 219-2778; thomas.dean@ferc.fed.us.

c. Purpose of the Teleconference: The Federal Energy Regulatory Commission, the Michigan Department of Natural Resources, and the U.S. Fish and Wildlife Service intend to discuss the resource agency's recommendations that were not recommended for adoption in the Portland Municipal Hydroelectric Project No. 11616-000 and the Webber Hydroelectric Project No. 2566-010 draft environmental assessment issued on September 19, 2000.

d. Proposed Agenda:

A. Introduction

Recognition of Participants

Teleconference Procedures and Objectives

B. Section 10(j) issues discussion

C. Issues outside of Section 10(j)

D. Summary of meeting

E. Follow-up actions

e. Anyone wishing to participate in the teleconference should call toll free, 1-888-399-8606. The caller will need to give the operator the passcode “Dean”, and the team leader name “Thomas Dean”, to join the teleconference.

David P. Boergers,
Secretary.

[FR Doc. 01-1140 Filed 1-12-01; 8:45 am]

BILLING CODE 6717-01-M